DEPARTMENT OF THE INTERIOR

Bureau of Indian Affairs

Rate Adjustments for Indian Irrigation Projects

AGENCY: Bureau of Indian Affairs, Interior.

ACTION: Notice of rate adjustments.

SUMMARY: The Bureau of Indian Affairs (BIA) owns, or has an interest in, irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: Effective Date: The irrigation assessment rates shown in the tables as final are effective as of January 1, 2009.

FOR FURTHER INFORMATION CONTACT: For details about a particular BIA irrigation project or facility, please use the tables in the SUPPLEMENTARY INFORMATION section to contact the regional or local office where the project or facility is located.

SUPPLEMENTARY INFORMATION: A Notice of Proposed Rate Adjustment was published in the Federal Register on October 30, 2008 (73 FR 64629) to propose adjustments to the irrigation assessment rates at several BIA irrigation projects. The public and interested parties were provided an opportunity to submit written comments during the 60-day period that ended December 29, 2008.

Did the BIA defer or change any proposed rate increases?

Yes. At the Fort Belknap, Fort Peck, and Uintah Irrigation Projects, the project operations and maintenance (O&M) has been contracted by the water users and/or tribes. Based on the budget submitted by the water users at Fort Belknap, the rate was only raised to $14.75 instead of $20.00 per acre. Based on the budget submitted by the water users at Fort Peck, the rate was only raised to $24.00 instead of $25.75 per acre. Based on the budget submitted by the water users at Uintah, the rate is raised to $15.00 instead of the previously proposed $13.70 per acre.

Did the BIA receive any comments on the proposed irrigation assessment rate adjustments?

Written comments were received related to the proposed rate adjustments for the San Carlos Irrigation Project—Joint Works, the Wapato Irrigation Project, and the Wind River Irrigation Project.

What issues were of concern to the commenters?

Individuals and entities commenting on the proposed rates raised concerns about one or more of the following issues: (1) How funds are expended for O&M costs; (2) the BIA's trust responsibility for projects; (3) the BIA's responsibility to enhance idle land tracts to make them productive; (4) the efficiencies of contracting with water users groups to perform O&M to save costs; and (5) how rate increases impact the local agricultural economy and individual land owners.

Commenters raised concerns specific to the Wind River Irrigation Project (WRIP), asserting that: (1) The BIA is responsible for delivery of the full amount of water quantified in the Big Horn Decree; (2) the WRIP should not be considered self-supporting for irrigation O&M funding and requires Federal assistance; and (3) the Eastern Shoshone and Northern Arapaho Tribes and their members should not be subsidizing non-Indian lessee water users.

A commenter raised concerns specific to the San Carlos Irrigation Project—Joint Works, asserting that: (1) The number of BIA personnel required to operate and maintain the project is too high; (2) the BIA should maintain the project wells; (3) anticipated project expenses for FY 2010 will be higher; and (4) the BIA is budgeting too much for emergency reserves.

The Yakama Nation raised concerns specific to the Wapato Irrigation Project, stating that the Yakama Nation does not believe that the BIA has authority to charge the Yakama Nation and its members irrigation O&M charges as provided in this notice.

How does the BIA respond to concerns regarding how funds are expended for O&M costs?

The BIA considers the following expenses when determining an irrigation project's budget: Project personnel costs; materials and supplies; vehicle and equipment repairs; equipment; capitalization expenses; acquisition expenses; rehabilitation costs; maintenance of a reserve fund for contingencies or emergencies; and other expenses that we determine are necessary to properly operate and maintain an irrigation project. Personnel costs include the cost of hiring employees, which includes a mandatory background check, as well as the costs of salaries and employee benefits including Social Security and health care.

One common misconception water users have is that all salary costs are administrative and are not used to provide services directly related to operation and maintenance of irrigation facilities. Only a portion of each project's budget is for administrative costs. The administrative costs for a project include office costs, office staff (accounting and clerical), and a portion of the project manager's salary. Non-administrative costs are the cost to operate and maintain the irrigation project or facility. O&M workers perform O&M work, and thus their salaries are considered O&M costs, not administrative costs. All projects need essential personnel to operate and maintain the project, including a project manager, accounting staff, and irrigation system operators (ditchriders).

There have been concerns raised that irrigation project funds have been used to pay BIA staff members who are not performing work related to operation and maintenance of irrigation facilities. This is not in accordance with applicable law and regulations, and the BIA is committed to ensuring that any such payments do not occur. Central Office staff from the BIA's Irrigation, Power, and Safety of Dams Program review expenditures routinely to ensure compliance with this policy. At some projects, non-irrigation staff assist the projects and are not being paid out of irrigation funds. For example, at the Wind River Irrigation Project, the Deputy Superintendent—Trust Services acted as the project manager and was not paid out of irrigation funding.

How does the BIA respond to comments regarding the BIA's trust responsibility in relation to projects?

The BIA disagrees that establishing irrigation assessments in accordance with applicable law violates any trust duty. The BIA has no trust obligation to operate and maintain irrigation projects. See, e.g., Grey v. United States, 21 Cl. Ct. 285 (1990), aff'd, 935 F.2d 281 (Fed. Cir. 1991), cert. denied, 502 U.S. 1057 (1992). The BIA, pursuant to 25 U.S.C. section 381 et seq. and 25 CFR Part 171, has the responsibility to administer constructed projects, set rates, collect assessments, and make decisions regarding water delivery. The BIA must collect O&M assessments to operate and maintain the irrigation infrastructure on its projects. Over time, the costs of operating and maintaining these projects increases, and rates must be adjusted accordingly to enable the BIA to continue to provide irrigation services. Raising rates to reflect the full costs associated with operating and maintaining projects is essential because O&M rates are the only consistent source of funding for the BIA's irrigation projects.

How does the BIA respond to comments regarding the BIA's trust responsibility to enhance idle tracts to make them productive?

As stated in the answer to the preceding question, the BIA has no trust obligation to operate and maintain irrigation projects. Likewise, the BIA has no obligation to enhance idle tracks of land within an irrigation project. However, recognizing the potential benefits to projects from such enhancements, the updated Irrigation O&M regulations (25 CFR 171.610) provide for an incentive to potential lessees who want to lease project land that is not being farmed (idle land). The lessee is eligible to enter into an Incentive Agreement with BIA. Under such an Incentive Agreement, BIA is able to waive O&M fees for up to three years while improvements are made to bring lands that are currently idle back into production. This feature provides benefits to landowners, who can more readily lease their lands; to lessees, who experience reduced costs associated with bringing lands back into production through reduced or waived O&M assessments; and to the projects, which will realize a more stable and productive land base.

How does the BIA respond to comments regarding the efficiencies of contracting with water user associations to perform O&M to save costs?

The BIA remains committed to work with all project water users to review and develop options for cost savings. If the water users believe that they can perform O&M functions more efficiently and effectively, the BIA will consider proposals and work with the appropriate parties regarding the potential to facilitate the transfer of O&M functions through a contract or other agreement.

How does the BIA respond to concerns regarding the impact of irrigation assessment rate increases on local agricultural economies and individual land owners?

The BIA's projects are important economic contributors to the local communities they serve. These projects contribute millions of dollars in crop value annually. Historically, the BIA tempered irrigation rate increases to demonstrate sensitivity to the economic impact on water users. This past practice resulted in a rate deficiency at some irrigation projects. The BIA does not have discretionary funds to subsidize irrigation projects. Funding to operate and maintain these projects needs to come from revenues from the water users served by those projects.

The BIA's irrigation program has been the subject of several Office of Inspector General (OIG) and GAO audits. In the most recent OIG audit, No. 96-I-641, March 1996, the OIG concluded: “Operation and maintenance revenues were insufficient to maintain the projects, and some projects had deteriorated to the extent that their continued capability to deliver water was in doubt. This occurred because operation and maintenance rates were not based on the full cost of delivering irrigation water, including the costs of systematically rehabilitating and replacing project facilities and equipment, and because project personnel did not seek regular rate increases to cover the full cost of project operation.” A previous OIG audit performed on one of the BIA's largest irrigation projects, the Wapato Indian Irrigation Project, No. 95-I-1402, September 1995, reached the same conclusion.

To address the issues noted in these audits, the BIA must systematically review and evaluate irrigation assessment rates and adjust them, when necessary, to reflect the full costs to operate and perform all appropriate maintenance on the irrigation project or facility infrastructure to ensure safe and reliable operation. If this review and adjustment is not accomplished, a rate deficiency can accumulate over time. Rate deficiencies force the BIA to raise irrigation assessment rates in larger increments over shorter periods of time than would have been otherwise necessary.

The following comments are specific to the Wind River Irrigation Project (WRIP):

How does the BIA respond to concerns regarding the BIA's responsibility for delivery of the full amount of water quantified in the Big Horn Decree, as BIA only delivers 40 percent of the water quantified?

This notice only pertains to the water delivered to WRIP, which is approximately 40 percent of the Eastern Shoshone and Northern Arapaho Tribes' water right quantified under the Big Horn Decree. The BIA delivers the amount of water that it has the capacity to deliver and is requested for use through the WRIP. The balance of the Tribes' water right is available for future uses and not affected by this notice.

How does the BIA respond to the concern that the WRIP should not be considered self-supporting for irrigation O&M funding and requires Federal assistance?

During some periods in the past, the BIA provided limited appropriated funds to irrigation projects to assist the projects with their O&M. At this time the BIA does not have discretionary funding available to subsidize O&M costs. Without necessary rate increases, the lack of adequate O&M funds could result in the inability of the project to maintain irrigation system components and deliver water.

How does the BIA respond to comments that the Shoshone and Arapaho Tribes and Tribal members should not be subsidizing the non-Indians?

This comment implies that Tribes and Tribal members are subsidizing non-Indians by paying for the O&M on lands leased by non-Indians. This is incorrect. Irrigation O&M for lands leased by others, Indian or non-Indian, are paid by the lessee, not the land owner.

The following comments are specific to the San Carlos Irrigation Project—Joint Works:

How does the BIA respond to the issue raised by users of the San Carlos Irrigation Project—Joint Works regarding the number of BIA personnel required to operate and maintain the project and the decision to lower the grade of the Supervisory Civil Engineer and make the position part time, as well as to abolish one Irrigation System Operator?

The Supervisory Civil Engineer position is typically responsible for management of the BIA irrigation employees and the irrigation system, including performing engineering analysis of system needs. As the BIA owns the entire San Carlos Irrigation Project—Joint Works, a Supervisory Civil Engineer will still be necessary to exercise oversight responsibility over the Joint Control Board to ensure that O&M is carried out in compliance with Government Standards.

In addition, the BIA is still responsible for “Scheduling and Delivery” of water, and based on workload projections, 3 Irrigation System Operators are needed in order to properly manage and schedule water.

How does the BIA respond to the issue raised by users of the San Carlos Irrigation Project—Joint Works regarding who is to manage the project's wells, and whether this can be changed in order to reduce anticipated FY 2010 project expenses?

The current agreement requires the BIA to continue maintenance of project wells until such time as they become a District Rehabilitation Responsibility project as defined in sections 9.1 and 9.4 of the Joint Control Board (JCB) Agreement. It may at some point prove feasible to transfer this responsibility to the JCB that has taken over portions of the project. However, as the agreement between the BIA and the JCB has yet to be implemented—a task the parties of the JCB rejected during settlement negotiations—it makes little sense to amend the agreement prior to implementation.

How does the BIA respond to concerns raised regarding amount of the emergency reserve for the project?

This concern is based on the preceding questions, so the BIA does not agree that the amount of the emergency reserve fund should be adjusted. The reserve funds are to prepare for events or emergencies which might interrupt the delivery of irrigation water and are required for BIA irrigation projects. The BIA recommends all projects follow U.S. Bureau of Reclamation guidelines to determine the amount of the reserve fund. The amount is based on a percentage of the annual O&M revenue funds collected by the project each year. The amount proposed for the San Carlos Irrigation Project—Joint Works is within the recommended guidelines.

The following comment is specific to the Wapato Irrigation Project:

How does the BIA respond to the Yakama Nation's objection to the BIA's policy of charging the Yakama Nation and its members irrigation O&M charges regardless of whether the parcel is producing adequate funds from agriculture to pay the O&M?

The Yakama Nation, which is served by the Wapato Irrigation Project, has an administrative appeal pending regarding the BIA's policy of setting irrigation assessment rates on assessable lands within BIA irrigation projects. The BIA's position is that we have statutory authority to establish the rates provided for under this notice.

Does this notice affect me?

This notice affects you if you own or lease land within the assessable acreage of one of our irrigation projects, or if you have a carriage agreement with one of our irrigation projects.

Where can I get information on the regulatory and legal citations in this notice?

You can contact the appropriate office(s) stated in the tables for the irrigation project that serves you, or you can use the Internet site for the Government Printing Office at http://www.gpo.gov.

What authorizes you to issue this notice?

Our authority to issue this notice is vested in the Secretary of the Interior by 5 U.S.C. 301 and the Act of August 14, 1914 (38 Stat. 583; 25 U.S.C. 385). The Secretary has in turn delegated this authority to the Assistant Secretary—Indian Affairs under Part 209, Chapter 8.1A, of the Department of the Interior's Departmental Manual.

Who can I contact for further information?

The following tables are the regional and project/agency contacts for our irrigation projects.

Project name | Project/agency contacts
Northwest Region Contacts
Stanley Speaks, Regional Director, Bureau of Indian Affairs, Northwest Regional Office, 911 NE. 11th Avenue, Portland, Oregon 97232-4169, Telephone: (503) 231-6702.
Flathead Irrigation Project | Chuck Courville, Superintendent, John Plouffe, Acting Irrigation Manager, Flathead Agency Irrigation Division, P.O. Box 40, Pablo, MT 59855-0040, Telephone: (406) 675-2700.
Fort Hall Irrigation Project | Eric J. LaPointe, Superintendent, Vacant, Supervisory General Engineer, Fort Hall Agency, P.O. Box 220, Fort Hall, ID 83203-0220, Telephone: (208) 238-2301.
Wapato Irrigation Project | Pierce Harrison, Project Administrator, Wapato Irrigation Project, P.O. Box 220, Wapato, WA 98951-0220, Telephone: (509) 877-3155.
Rocky Mountain Region Contacts
Ed Parisian, Regional Director, Bureau of Indian Affairs, Rocky Mountain Regional Office, 316 North 26th Street, Billings, Montana 59101, Telephone: (406) 247-7943.
Blackfeet Irrigation Project | Stephen Pollock, Superintendent, Ted Hall, Irrigation Project Manager, Box 880, Browning, MT 59417, Telephones: (406) 338-7544, Superintendent, (406) 338-7519, Irrigation Project Manager.
Crow Irrigation Project | Frank Merchant, Acting Superintendent, Vacant, Irrigation Project Manager, P.O. Box 69, Crow Agency, MT 59022, Telephones: (406) 638-2672, Superintendent, (406) 638-2863, Irrigation Project Manager.
Fort Belknap Irrigation Project | Judy Gray, Superintendent, Vacant, Irrigation Project Manager, (Project Operations and Mgmt Contracted by Tribes), R.R. 1, Box 980, Harlem, MT 59526, Telephones: (406) 353-2901, Superintendent, (406) 353-2905, Irrigation Project Manager.
Fort Peck Irrigation Project | Florence White Eagle, Superintendent, P.O. Box 637, Poplar, MT 59255, Richard Kurtz, Irrigation Manager, 602 6th Avenue North, Wolf Point, MT 59201, Telephones: (406) 768-5312, Superintendent, (406) 653-1752, Irrigation Manager.
Wind River Irrigation Project | Ed Lone Fight, Superintendent, Sheridan Nicholas, Irrigation Project Manager, P.O. Box 158, Fort Washakie, WY 82514, Telephones: (307) 332-7810, Superintendent, (307) 332-2596, Irrigation Project Manager.
Southwest Region Contacts
William T. Walker, Acting Regional Director, Bureau of Indian Affairs, Southwest Regional Office, 1001 Indian School Road, Albuquerque, New Mexico 87104, Telephone: (505) 563-3100.
Pine River Irrigation Project | Vacant, Superintendent, John Formea, Irrigation Engineer, P.O. Box 315, Ignacio, CO 81137-0315, Telephones: (970) 563-4511, Superintendent, (970) 563-9484, Irrigation Engineer.
Western Region Contacts
Allen Anspach, Regional Director, Bureau of Indian Affairs, Western Regional Office, Two Arizona Center, 400 N. 5th Street, 12th floor, Phoenix, Arizona 85004, Telephone: (602) 379-6600.
Colorado River Irrigation Project | Janice Staudte, Superintendent, Ted Henry, Irrigation Project Manager, 12124 1st Avenue, Parker, AZ 85344, Telephone: (928) 669-7111.
Duck Valley Irrigation Project | Joseph McDade, Superintendent, 1555 Shoshone Circle, Elko, NV 89801, Telephone: (775) 738-0569.
Fort Yuma Irrigation Project | Raymond Fry, Superintendent, P.O. Box 11000, Yuma, AZ 85366, Telephone: (520) 782-1202.
San Carlos Irrigation Project Joint Works | Bryan Bowker, Project Manager, Augie Fisher, Acting Supervisory General Engineer, P.O. Box 250, Coolidge, AZ 85228, Telephone: (520) 723-6216.
San Carlos Irrigation Project Indian Works | Cecilia Martinez, Superintendent, Joe Revak, Supervisory General Engineer, Pima Agency, Land Operations, P.O. Box 8, Sacaton, AZ 85247, Telephone: (520) 562-3326, Telephone: (520) 562-3372.
Uintah Irrigation Project | Daniel Picard, Superintendent, Karnel Murdock, Acting Irrigation Manager, P.O. Box 130, Fort Duchesne, UT 84026, Telephone: (435) 722-4300, Telephone: (435) 722-4341.
Walker River Irrigation Project | Athena Brown, Superintendent, 311 E. Washington Street, Carson City, NV 89701, Telephone: (775) 887-3500.

What irrigation assessments or charges are adjusted by this notice?

The rate table below contains the current rates for all irrigation projects where we recover costs for operation and maintenance. The table also contains the final rates for the 2009 season and subsequent years where applicable. An asterisk immediately following the name of the project notes the irrigation projects where rates are adjusted for 2009.

Project name | Rate category | Final 2008 rate | Final 2009 rate | Final 2010 rate
Northwest Region Rate Table
Flathead Irrigation Project* (See Note #1) | Basic per acre—A | $23.45 | $23.45 | $23.45
| Basic per acre—B | 10.75 | 10.75 | 11.75
| Minimum Charge per tract | 65.00 | 65.00 | 65.00
Fort Hall Irrigation Project* | Basic per acre | 31.00 | 40.50 | To be determined
| Minimum Charge per tract | 27.00 | 30.00
Fort Hall Irrigation Project—Minor Units* | Basic per acre | 21.00 | 21.00
| Minimum Charge per tract | 27.00 | 30.00
Fort Hall Irrigation Project—Michaud* | Basic per acre | 39.75 | 41.50
| Pressure per acre | 55.50 | 58.00
| Minimum Charge per tract | 27.00 | 30.00
| Minimum Charge for farm unit/land tracts up to one acre | 14.00 | 15.00
| Farm unit/land tracts over one acre—per acre | 14.00 | 15.00
Wapato Irrigation Project—Toppenish/Simcoe Units* | Minimum Charge per tract | 14.00 | 15.00
| Basic per acre | 14.00 | 15.00
Wapato Irrigation Project—Ahtanum Units* | Minimum Charge per tract | 14.00 | 15.00
| Basic per acre | 14.00 | 15.00
Wapato Irrigation Project—Satus Unit* | Minimum Charge per tract | 55.00 | 58.00
| “A” Basic per acre | 55.00 | 58.00
| “B” Basic per acre | 65.00 | 68.00
Wapato Irrigation Project—Additional Works* | Minimum Charge per tract | 60.00 | 63.00
| Basic per acre | 60.00 | 63.00
Wapato Irrigation Project—Water Rental* | Minimum Charge | 67.00 | 70.00
| Basic per acre | 67.00 | 70.00

Project name | Rate category | Final 2008 rate | Final 2009 rate
Rocky Mountain Region Rate Table
Blackfeet Irrigation Project* | Basic-per acre | $17.00 | $18.00
Crow Irrigation Project—Willow Creek O&M (includes Agency, Lodge Grass #1, Lodge Grass #2, Reno, Upper Little Horn, and Forty Mile Units) | Basic-per acre | 20.80 | 20.80
Crow Irrigation Project—All Others (includes Bighorn, Soap Creek, and Pryor Units) | Basic-per acre | 20.50 | 20.50
Crow Irrigation Two Leggins Drainage District | Basic-per acre | 2.00 | 2.00
Fort Belknap Irrigation Project* | Basic-per acre | 13.88 | 14.75
Fort Peck Irrigation Project* | Basic-per acre | 22.00 | 24.00
Wind River Irrigation Project * | Basic-per acre | 16.00 | 18.00
Wind River Irrigation Project—*LeClair District | Basic-per acre | 17.00 | 19.00
Southwest Region Rate Table
Pine River Irrigation Project | Minimum Charge per tract | 50.00 | 50.00
| Basic-per acre | 15.00 | 15.00

Project name | Rate category | Final 2008 rate | Final 2009 rate | Final 2010 rate | Final 2011 rate
Western Region Rate Table
Colorado River* Irrigation Project | Basic per acre up to 5.75 acre-feet | $47.00 | $51.00 | $52.50 | $54.00.
| Excess Water per acre-foot over 5.75 acre-feet | 17.00 | 17.00 | To be determined |
Duck Valley Irrigation Project | Basic per acre | 5.30 | 5.30 | To be determined | To be determined.
Fort Yuma* Irrigation Project (See Note #2) | Basic per acre up to 5.0 acre-feet | 77.00 | 77.00 | To be determined | To be determined.
| Excess Water per acre-foot over 5.0 acre-feet | 14.00 | 14.00
| Basic per acre up to 5.0 acre-feet (Ranch 5) | 28.00 | 77.00
San Carlos Irrigation Project (Joint Works) (See Note #3) | Basic per acre | 21.00 | 21.00 | 21.00 | To be determined.
San Carlos Irrigation Project (Indian Works) | Basic per acre | 57.00 | 57.00 | To be determined | To be determined.
Uintah Irrigation Project* | Basic per acre | 12.50 | 15.00
| Minimum Bill | 25.00 | 25.00
Walker River Irrigation Project* (See Note #4) | Indian per acre | $13.00 | $16.00 | $19.00 | $22.00.
| non-Indian per acre | 16.00 | 16.00 | 19.00 | 22.00.
* Notes irrigation projects where rates are proposed for adjustment.
Note #1—The 2009 rate was established by final notice published in the Federal Register on June 5, 2008 (Vol. 73, No. 109, page 32046). The 2010 rate is final by this notice.
Note #2—The O&M rate for the Fort Yuma Irrigation Project has two components. The first component is the O&M rate established by the Bureau of Reclamation (BOR), the owner and operator of the Project. The BOR rate for 2009 remains unchanged at $70.00/acre. The second component is for the O&M rate established by BIA to cover administrative costs including billing and collections for the Project. The 2009 BIA rate remains unchanged at $7.00/acre. In 2009, the BOR rate for “Ranch 5” will be increased from $28.00/acre to $70.00/acre, and BIA will begin charging the $7.00/acre administrative fee on “Ranch 5” acreage.
Note #3—The 2009 rate was established by final notice published in the Federal Register on April 20, 2007 (Vol. 72, No. 76, page 19954).
Note #4—The 2009 rate was established by final notice published in the Federal Register on June 5, 2008 (Vol. 73, No. 109, page 32047). The 2010 rate is final through this notice.

Consultation and Coordination With Tribal Governments (Executive Order 13175)

To fulfill its consultation responsibility to tribes and tribal organizations, BIA communicates, coordinates, and consults on a continuing basis with these entities on issues related to water delivery, water availability, and costs of administration, operation, maintenance, and rehabilitation of projects that concern them. This is accomplished at the individual irrigation project by Project, Agency, and Regional representatives, as appropriate, in accordance with local protocol and procedures. This notice is one component of our overall coordination and consultation process to provide notice to these entities when we adjust irrigation assessment rates.

Actions Concerning Regulations That Significantly Affect Energy Supply, Distribution, or Use (Executive Order 13211)

The rate adjustments will have no adverse effects on energy supply, distribution, or use (including a shortfall in supply, price increases, and increase use of foreign supplies) should the proposed rate adjustments be implemented. This is a notice for rate adjustments at BIA-owned and operated irrigation projects, except for the Fort Yuma Irrigation Project. The Fort Yuma Irrigation Project is owned and operated by the Bureau of Reclamation with a portion serving the Fort Yuma Reservation.

Regulatory Planning and Review (Executive Order 12866)

These rate adjustments are not a significant regulatory action and do not need to be reviewed by the Office of Management and Budget under Executive Order 12866.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on State, local, or tribal governments in the aggregate, or on the private sector, of more than $130 million per year. The rule does not have a significant or unique effect on State, local, or tribal governments or the private sector. Therefore, the Department is not required to prepare a statement containing the information required by the Unfunded Mandates Reform Act (2 U.S.C. 1531 et seq.).

Takings (Executive Order 12630)

The Department has determined that these rate adjustments do not have significant “takings” implications. The rate adjustments do not deprive the public, state, or local governments of rights or property.

Federalism (Executive Order 13132)

The Department has determined that these rate adjustments do not have significant Federalism effects because they will not affect the States, the relationship between the national government and the States, or the distribution of power and responsibilities among various levels of government.

Civil Justice Reform (Executive Order 12988)

In issuing this rule, the Department has taken the necessary steps to eliminate drafting errors and ambiguity, minimize potential litigation, and provide a clear legal standard for affected conduct, as required by section 3 of Executive Order 12988.

Paperwork Reduction Act of 1995

These rate adjustments do not affect the collections of information which have been approved by the Office of Information and Regulatory Affairs, Office of Management and Budget, under the Paperwork Reduction Act of 1995. The OMB Control Number is 1076-0141 and expires August 31, 2009.

National Environmental Policy Act

The Department has determined that these rate adjustments do not constitute a major Federal action significantly affecting the quality of the human environment and that no detailed statement is required under the National Environmental Policy Act of 1969 (42 U.S.C. 4321-4370(d)).

Information Quality Act

In developing this notice, we did not conduct or use a study, experiment, or survey requiring peer review under the Information Quality Act (Pub. L. 106-554).

Dated: April 13, 2009.
George Skibine,
Acting Deputy Assistant Secretary for Policy and Economic Development.

[FR Doc. E9-9277 Filed 4-21-09; 8:45 am]

BILLING CODE 4310-W7-P